DEPARTMENT OF HOMELAND SECURITY

U.S. Customs and Border Protection

19 CFR Parts 4, 7, 10, 11, 12, 24, 54, 101, 102, 103, 113, 132, 133, 134, 141, 142, 143, 144, 145, 146, 147, 151, 152, 158, 159, 161, 162, 163, 173, 174, 176, and 181

[Docket No. USCBP-2016-0075; CBP Dec. No. 16-26]

RIN 1651-AB02

Regulatory Implementation of the Centers of Excellence and Expertise

AGENCIES: U.S. Customs and Border Protection, Department of Homeland Security.

ACTION: Interim final rule; extension of comment period.

SUMMARY: This document provides an additional 60 days for interested parties to submit comments on the interim final rule that amended the U.S. Customs and Border Protection (CBP) regulations establishing the Centers of Excellence and Expertise (“Centers”) as a permanent organizational component of the agency and transitioning certain additional trade functions to the Centers. The interim final rule was published in the Federal Register on December 20, 2016, with comments due on or before January 19, 2017. To have as much public participation as possible in the formulation of the final rule, CBP is extending the comment period to March 20, 2017.

DATES: The comment period for the interim final rule published December 20, 2016, at 81 FR 92978, effective January 19, 2017, is extended. Comments must be received on or before March 20, 2017.

ADDRESSES: You may submit comments, identified by docket number, by one of the following methods:

• Federal eRulemaking Portal: http://www.regulations.gov. Follow the instructions for submitting comments via docket number USCBP-2016-0075.

• Mail: Trade and Commercial Regulations Branch, Regulations and Rulings, Office of Trade, Customs and Border Protection, 90 K Street NE., 10th Floor, Washington, DC 20229-1177.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may be inspected during regular business days between the hours of 9 a.m. and 4:30 p.m. at the Trade and Commercial Regulations Branch, Regulations and Rulings, Office of Trade, Customs and Border Protection, 90 K Street NE., 10th Floor, Washington, DC. Arrangements to inspect submitted comments should be made in advance by calling Mr. Joseph Clark at (202) 325-0118.

FOR FURTHER INFORMATION CONTACT: Lori Whitehurst, CBP Office of Field Operations by telephone (202) 344-2536 or by email, lori.j.whitehurst@cbp.dhs.gov; or Susan S. Thomas, CBP Office of Field Operations by telephone (202) 344-2511 or by email, susan.s.thomas@cbp.dhs.gov.

SUPPLEMENTARY INFORMATION:

I. Public Participation

Interested persons are invited to participate in this rulemaking by submitting written data, views, or arguments on all aspects of the interim rule. U.S. Customs and Border Protection (CBP) also invites comments that relate to the economic, environmental, or federalism effects that might result from this interim rule. Comments that will provide the most assistance to CBP will reference a specific portion of the interim rule, explain the reason for any recommended change, and include data, information, or authority that support such recommended change. See ADDRESSES above for information on how to submit comments.

II. Background

On December 20, 2016, CBP published in the Federal Register (81 FR 92978) an Interim Final Rule (CBP Dec. No. 16-26) that amended the CBP regulations establishing the Centers of Excellence and Expertise (“Centers”) as a permanent organizational component of the agency and transitioning certain additional trade functions to the Centers. The document solicited public comments in the interim rule, and requested that submitted comments be received by CBP on or before January 19, 2017. The effective date of the interim rule is January 19, 2017.

Extension of Comment Period

With the goal of establishing the most effective and transparent procedures as possible for CBP to establish the Centers as a permanent organizational component of the agency, CBP believes that it is very important to have as much public participation as possible in the formulation of the final rule that establishes those procedures for CBP. Therefore, CBP has decided to allow additional time for the public to submit comments on the final rule. Accordingly, the comment period is extended to March 20, 2017.

Dated: January 18, 2017.
Richard F. DiNucci,
Executive Director, Cargo and Conveyance Security, Office of Field Operations.

[FR Doc. 2017-01580 Filed 1-26-17; 8:45 am]

BILLING CODE 9111-14-P